DEPARTMENT OF THE INTERIOR

Fish and Wildlife Service

50 CFR Part 17

RIN 1018-AH00

Endangered and Threatened Wildlife and Plants; Designating Critical Habitat for Deinandra conjugens (Otay tarplant)

AGENCY: Fish and Wildlife Service, Interior.

ACTION: Proposed rule; reopening of public comment period and notice of availability of draft economic analysis.

SUMMARY: We, the U.S. Fish and Wildlife Service (Service), announce the availability of a draft economic analysis for the proposed designation of critical habitat for Deinandra conjugens (Otay tarplant). We are also providing notice of the reopening of the comment period to allow for all interested parties to submit written comments on the draft economic analysis, and the proposed designation. Comments previously received need not be resubmitted as they will be incorporated into the public record and will be fully considered in the final rule.

DATES: The original public comment period on the critical habitat proposal closed on August 13, 2001. The comment period is reopened and we will accept comments until August 9, 2002. Comments must be received by 5 p.m. on the closing date. Any comments that are received after the closing date may not be considered in the final decision on this proposal.

ADDRESSES: Written comments and information should be submitted to Field Supervisor, U.S. Fish and Wildlife Service, Carlsbad Fish and Wildlife Office, 2730 Loker Avenue West, Carlsbad, CA 92008.

FOR FURTHER INFORMATION CONTACT: Field Supervisor, Carlsbad Fish and Wildlife Office, at the above address (telephone 760-431-9440; facsimile 760-431-5902).

SUPPLEMENTARY INFORMATION:

Background

Deinandra conjugens (Otay tarplant) was known as Hemizonia conjugens when it was listed on October 13, 1998 (63 FR 54938). Since then, studies analyzing plant and flower morphology and genetic information prompted Baldwin (1999) to revise the Madiinae (tarplants), a tribe in the Asteraceae (sunflower family), and to reclassify several species into new or different genera. As a result, Deinandra conjugens is now the accepted scientific name for Hemizonia conjugens. This taxonomic change does not alter the limits or definition of D. conjugens. Because this taxonomic change was published and is generally accepted by the scientific community, we have proposed to change the name of H. conjugens to D. conjugens in 50 CFR 17.12(h) in our proposed critical habitat designation, and will use D. conjugens in this notice.

Deinandra conjugens was first described by David D. Keck (1958) as Hemizonia conjugens based on a specimen collected by L.R. Abrams in 1903 from river bottom land in the Otay Valley area of San Diego County, California. Deinandra conjugens is a glandular, aromatic annual of the Sunflower Family (Asteraceae). It has a branching stem that generally ranges from 5 to 25 centimeters (2 to 10 inches) in height with deep green or gray-green leaves covered with soft, shaggy hairs. The yellow flower heads are composed of 8 to 10 ray flowers and 13 to 21 disk flowers with hairless or sparingly downy corollas (fused petals). The phyllaries (small bracts associated with the flower heads) are ridged and have short-stalked glands and large, stalkless, flat glands near the margins. Deinandra conjugens occurs within the range of D. fasciculata [=Hemizonia fasciculata] (fasciculated tarplant) and D. paniculata [=H. paniculata] (San Diego tarplant). Deinandra conjugens can be distinguished from other members of the genus by its ridged phyllaries, black anthers (part of flower that produces pollen), and by the number of disk and ray flowers.

Based on information from herbarium records at the San Diego Natural History Museum (SDNHM) and CNDDB (2000) records, Deinandra conjugens has a narrow geographic distribution. The Service published a final rule on October 13, 1998, listing the species as threatened pursuant to the Endangered Species Act, as amended (Act). Additional information received after the listing indicates that the historical range for D. conjugens in San Diego County, California, is from the Mexican border north to Spring Valley and Paradise Valley, a distance of about 24 kilometers (km) (15 miles (mi)), and from Interstate Highway 805 east to Otay Lakes Reservoir, a distance of about 13 km (8 mi). Further, based on these museum and database records, the elevational range for D. conjugens appears to be between 25 and 300 meters (m) (80 and 1,000 feet (ft)).

At the time the species was listed as threatened pursuant to the Act, we estimated that 70 percent of the suitable habitat for this species within its known range had been lost to development or agriculture (63 FR 54938). Since 1998, additional habitat has been lost to development (e.g., urban, commercial, industrial, and residential) and agriculture (e.g., grazing, farming). On June 13, 2001, we published a rule in the Federal Register (66 FR 32052) proposing to designate approximately 2,685 hectares (6,630 acres) of land in San Diego County, California, as critical habitat for Deinandra conjugens pursuant to the Act.

Section 4(b)(2) of the Act requires that the Secretary shall designate or revise critical habitat based upon the best scientific and commercial data available and after taking into consideration the economic impact of specifying any particular area as critical habitat. Based upon the previously published proposal to designate critical habitat for Deinandra conjugens and comments received during the previous comment period, we have prepared a draft economic analysis of the proposed critical habitat designation. The draft economic analysis is available at the above mailing and internet address (see ADDRESSES section). We will accept written comments during this reopened comment period. The current comment period on this proposal and draft economic analysis closes on August 9, 2002.

Public Comments Solicited

We will accept written comments and information during this comment period. If you wish to comment, you may submit written comments and materials concerning this proposal by any of several methods:

(1) You may submit written comments and information to the Field Supervisor, Carlsbad Fish and Wildlife Office (see ADDRESSES section).

(2) You may send comments by electronic mail (e-mail) to: deco@r1.fws.gov. If you submit comments by e-mail, please submit them as an ASCII file and avoid the use of special characters and any form of encryption. Please include “Attn: Otay tarplant” and your name and return address in your e-mail message. If you do not receive a confirmation from the system that we have received your e-mail message, contact us directly by calling our Carlsbad Fish and Wildlife Office at telephone number 760-431-9440.

(3) You may hand-deliver comments to our Carlsbad Fish and Wildlife Office (see ADDRESSES section).

Comments and materials received, as well as supporting documentation used in preparation of the proposal to designate critical habitat, will be available for inspection, by appointment, during normal business hours at the Carlsbad Fish and Wildlife Office (see ADDRESSES section). Copies of the draft economic analysis are available on the Internet at “http://carlsbad.fws.gov” or by writing to the Field Supervisor, Carlsbad Fish and Wildlife Office (see ADDRESSES section).

References Cited

A complete list of all references cited in this notice is available upon request from the Carlsbad Fish and Wildlife Office (see ADDRESSES section).

Author

The primary author of this notice is Daniel R. Brown (see ADDRESSES section).

Authority

The authority for this action is the Endangered Species Act of 1973 (16 U.S.C. 1531 et seq.).

Dated: June 16, 2002.
Craig Manson,
Assistant Secretary for Fish Wildlife and Parks.

[FR Doc. 02-17344 Filed 7-9-02; 8:45 am]

BILLING CODE 4310-55-U